DEPARTMENT OF JUSTICE

Office of Justice Programs

28 CFR Part 91

[OJP (OJP)—Docket No. 1382]

RIN 1121-AA41

Grants for Correctional Facilities

AGENCY: Office of Justice Programs, Justice.

ACTION: Final rule.

SUMMARY: The Office of Justice Programs (OJP), Department of Justice, is adopting as a final rule, without change, an interim final rule with request for comments that OJP published on January 15, 2004, at 69 FR 2298. That interim rule updated and clarified what the Bureau of Justice Assistance (BJA), a component of OJP, considered to be an eligible “Indian tribe,” and what the BJA considered to be “construction,” under the Grants for Correctional Facilities on Tribal Lands Program. OJP did not receive any comments.

DATES: Effective February 20, 2007.

FOR FURTHER INFORMATION CONTACT: Maria Pressley, Bureau of Justice Assistance, Office of Justice Programs, 810 Seventh Street, NW., Washington, DC 20531; Telephone: (202) 353-8643. (This is not a toll-free number.)

SUPPLEMENTARY INFORMATION: The Bureau of Justice Assistance (BJA) administers several major grant programs and provides technical assistance to state, local, and tribal governments to help them with the implementation of corrections-related programs under the Violent Crime Control and Law Enforcement Act of 1994. One such program is the Grants for Correctional Facilities on Tribal Lands Program. This program provides funding for the construction of correctional facilities on tribal lands for the incarceration of offenders subject to tribal jurisdiction.

Grants for Correctional Facilities on Tribal Lands Program funds may not be used for the purchase of land or for the costs associated with the operation of the correctional facility.

Background

On September 24, 1996, the Office of Justice Programs (OJP) published an interim rule (at 61 FR 49969), amending 28 CFR part 91, subpart C, Grants for Correctional Facilities, to implement the Violent Offender Incarceration and Truth-in-Sentencing Grants Program for Indian Tribes, as required by section 114 of the Fiscal Year 1996 Omnibus Consolidated Rescissions and Appropriations Act (Pub. L. 104-134). Section 114 amended the Violent Crime Control and Law Enforcement Act of 1994, 42 U.S.C. 13701 et seq., to authorize a reservation of funds for the specific purpose of allowing the Attorney General to make discretionary grants to Indian tribes.

After the publication of the 1996 interim rule, OJP received comments requesting further clarification of certain terms. Accordingly, on January 15, 2004, OJP published a second interim rule seeking comments (at 69 FR 2298) and further clarifying what the BJA considers to be an eligible “Indian tribe” and what it considered to be “construction.”

Comments on the second interim rule were required to be received on or by March 15, 2004. OJP did not receive any comments. Therefore, for the reasons given in the interim rule, OJP is adopting the interim rule as a final rule. No changes were made between the second interim rule and this final rule.

Regulatory Certifications

Executive Order 12866

This final rule has been written and reviewed in accordance with Executive Order 12866, Sec. 1(b), Principles of Regulation. OJP has determined that this final rule is not a “significant regulatory action” under Executive Order 12866, Sec. 3(f), Regulatory Planning and Review, and accordingly this rule has not been reviewed by the Office of Management and Budget.

Regulatory Flexibility Act of 1980

OJP, in accordance with the Regulatory Flexibility Act (5 U.S.C. 605(b)), has reviewed this final rule and by approving it certifies that this rule will not have a significant economic impact on a substantial number of small entities because the economic impact is limited to OJP's appropriated funds.

Unfunded Mandates Act of 1995

This final rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This final rule is not a major rule as defined by section 251 of the Small Business Regulatory Enforcement Fairness Act of 1996, 5 U.S.C. 804. This rule will not result in an annual effect on the economy of $100,000,000 or more; a major increase in costs or prices; or significant adverse effects on competition, employment, investment, productivity, innovation, or on the ability of United States-based companies to compete with foreign-based companies in domestic and export markets.

Paperwork Reduction Act

No new collection of information requirements as defined under the Paperwork Reduction Act (44 U.S.C. 3504(h)) are being added by this final rule.

Environmental Impact

OJP has evaluated this final rule in accordance with its procedures for ensuring full consideration of the potential environmental impacts of OJP's actions, as required by the National Environmental Policy Act (42 U.S.C. 4321 et seq.) and related directives. OJP has concluded that the issuance of this final rule does not have a significant impact on the quality of the human environment and, therefore, does not require the preparation of an Environmental Impact Statement.

Energy Impact Statement

OJP has evaluated this final rule and has determined that it creates no new impact on the energy supply or distribution.

List of Subjects in 28 CFR Part 91

Grant programs law.

PART 91—GRANTS FOR CORRECTIONAL FACILITIES

Accordingly, OJP is adopting as a final rule, without change, the second interim rule that amended 28 CFR part 91 and that was published at 69 FR 2298 on January 15, 2004.

Regina B. Schofield,
Assistant Attorney General, Office of Justice Programs.

[FR Doc. E7-619 Filed 1-17-07; 8:45 am]

BILLING CODE 4410-18-P